ENVIRONMENTAL PROTECTION AGENCY

[FRL-7128-6]

Peer Review of EPA Draft Human Health and Ecological Risk Assessment of Perchlorate

AGENCY: Environmental Protection Agency.

ACTION: Notice; correction to Notice of Peer Review Workshop and public comment period.

SUMMARY: On January 2, 2002, the U.S. Environmental Protection Agency (EPA), Office of Research and Development (ORD) announced an external peer review workshop to review the revised draft document entitled, “Perchlorate Environmental Contamination: Toxicological Review and Risk Characterization” (NCEA-1-0503) and a public comment period for this draft document (67 FR 75). The peer review workshop will take place on March 5 and 6, 2002, in Sacramento, California. The public comment period is January 9, 2002, to February 11, 2002. The deadline for registration is February 25, 2002. This notice corrects the address for electronic registration and electronic submission of comments provided in the January 2 Federal Register notice.

Correction to Addresses

To attend the meeting as an observer, please register with the Eastern Research Group (ERG), an EPA contractor. Please note that the registration Internet site provided in the January 2, 2002, Federal Register notice is incorrect. To register, send an e-mail request to ERG at meetings@erg.com (include name, affiliation, full address, phone/fax number, and e-mail address) or by calling the conference registration line at 781-674-7374 between the hours of 9 a.m. and 5 p.m. EST or via fax at 781-674-2906. You may also mail a registration request to ERG, Attn: Meetings, 110 Hartwell Avenue, Lexington, MA 02421. Please indicate when registering whether you plan to make observer comments.

Correction for Comment Submission

Please note that the e-mail address provided in the January 2, 2002, Federal Register notice is incorrect. Written comments should be submitted to ERG, Attn: Meetings, 110 Hartwell Avenue, Lexington, MA 02421. Comments under 50 pages may be sent via e-mail attachment (in Word, Word Perfect, or PDF) to meetings@erg.com.

Dated: January 4, 2002.
Arthur Payne,
Acting Director, National Center for Environmental Assessment.

[FR Doc. 02-877 Filed 1-11-02; 8:45 am]

BILLING CODE 6560-50-P